DEPARTMENT OF THE INTERIOR

Minerals Management Service

Agency Information Collection Activities: Submitted for Office of Management and Budget (OMB) Review; Comment Request

AGENCY: Minerals Management Service (MMS), Interior.

ACTION: Notice of extension of an information collection (1010-0067).

SUMMARY: To comply with the Paperwork Reduction Act of 1995 (PRA), we are notifying the public that we have submitted to OMB an information collection request (ICR) to renew approval of the paperwork requirements in the regulations under “30 CFR 250, Subpart E, Oil and Gas Well-Completion Operations,” and related documents. This notice also provides the public a second opportunity to comment on the paperwork burden of these regulatory requirements.

DATES: Submit written comments by September 29, 2004.

ADDRESSES: You may submit comments either by fax (202) 395-6566 or email (OIRA_DOCKET@omb.eop.gov) directly to the Office of Information and Regulatory Affairs, OMB, Attention: Desk Officer for the Department of the Interior (1010-0067). Mail or hand carry a copy of your comments to the Department of the Interior; Minerals Management Service; Attention: Rules Processing Team; Mail Stop 4024; 381 Elden Street; Herndon, Virginia 20170-4817. If you wish to email your comments to MMS, the address is: rules.comments@mms.gov. Reference Information Collection 1010-0067 in your subject line and mark your message for return receipt. Include your name and return address in your message text.

FOR FURTHER INFORMATION CONTACT: Cheryl Blundon, Rules Processing Team, telephone (703) 787-1600. You may also contact Cheryl Blundon to obtain a copy, at no cost, of the regulations that require the subject collection of information.

SUPPLEMENTARY INFORMATION: Title: 30 CFR 250, Subpart E, Oil and Gas Well-Completion Operations.

OMB Control Number: 1010-0067.

Abstract: The Outer Continental Shelf (OCS) Lands Act, as amended (43 U.S.C. 1331 et seq. and 43 U.S.C. 1801 et seq.), authorizes the Secretary of the Interior (Secretary) to preserve, protect, and develop oil and gas resources in the OCS; make such resources available to meet the Nation's energy needs as rapidly as possible; balance orderly energy resources development with protection of the human, marine, and coastal environment; ensure the public a fair and equitable return on resources offshore; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to MMS. To carry out these responsibilities, MMS issues regulations governing oil and gas and sulphur operations in the OCS. This collection of information addresses 30 CFR part 250, Subpart E, Oil and Gas Well-Completion Operations.

The MMS District Supervisors analyze and evaluate the information and data collected under Subpart E to ensure that planned well-completion operations will protect personnel safety and natural resources. They use the analysis and evaluation results in the decision to approve, disapprove, or require modification to the proposed well-completion operations. Specifically, MMS uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits. The MMS district and regional offices plan to issue an NTL, in the future, and they will use paperwork requirements in this new proposed Gulf of Mexico Region NTL to determine that production from wells with SCP continues to afford the greatest possible degree of safety under these conditions.

Responses are mandatory. No questions of a “sensitive” nature are asked. MMS will protect proprietary information according to 30 CFR 250.196 (Data and information to be made available to the public) and 30 CFR part 252 (OCS Oil and Gas Information Program).

Frequency: Varies by section, but is mostly “on occasion” or annual.

Estimated Number and Description of Respondents: Approximately 130 Federal OCS oil and gas or sulphur lessees.

Estimated Annual Reporting and Recordkeeping “Hour” Burden: The following chart details the components of the information collection requirements in subpart E, which we estimate to be a total of 11,995 burden hours. In estimating the burden, we assumed that respondents perform certain requirements in the normal course of their activities. We consider these to be usual and customary and took that into account in estimating the burden.

Citation 30 CFR 250 subpart E & LTL/NTL sec. | Reporting & recordkeeping (R/K) requirement | Burden per requirement | Average annual responses | Annual burden hours
502 | Request approval not to shut-in well during equipment movement | 1 hour | 45 requests | 45
502 | Notify MMS of well-completion rig movement on or off platform or from well to well on same platform (form MMS-144) | Burden covered under 1010-0150 |  | 0
505; 513; 515(a); 516(g), (j); | Submit forms MMS-123, MMS-124, MMS-125 for various approvals, including remediation procedure for SCP | Burden covered under 1010-0044, 1010-0045, 1010-0046 |  | 0
512 | Request field well-completion rules be established and canceled (on occasion, however, there have been no requests in many years) | 1 hour | 2 requests | 2
515(a) | Submit well-control procedure | 1 hour | 16 procedures | 16
517(b) | Pressure test, caliper, or otherwise evaluate tubing & wellhead equipment casing; submit results (every 30 days during prolonged operations) | 9 hours | 399 reports | 3,591
517(c); LTL*/ NTL | Notify MMS if sustained casing pressure is observed on a well | ¼ hour | 513 notices | 129
LTL/NTL | Report failure of casing pressure to bleed to zero including plan to remediate | 4 hours | 1,002 submissions | 4,008
LTL/NTL | Notify MMS when remediation procedure is complete | 1 hour | 11 notices | 11
Future NTL | Appeal departure request denial according to 30 CFR Part 290 | Burden covered 1010-0121 |  | 0
500-517 | General departure and alternative compliance requests not specifically covered elsewhere in Subpart E regulations | 2 hours | 264 requests | 528
| Subtotal—Reporting |  | 2,252 | 8,330
506 | Instruct crew members in safety requirements of operations to be performed; document meeting (weekly for 2 crews × 2 weeks per completion = 4) | 20 minutes | 810 completions × 4 = 3,240 | 1,080
511 | Perform operational check of traveling-block safety device; document results (weekly × 2 weeks per completion = 2) | 6 minutes | 810 completions × 2 = 1,620 | 162
516 tests; 516(i),(j) | Record BOP test results; retain records 2 years following completion of well (when installed; minimum every 7 days; as stated for component) | ¼ hour | 810 completions | 203
516(d)(5) test; 516(i) | Function test annulars and rams; document results (every 7 days between BOP tests—biweekly; note: part of BOP test when conducted) | ½ hour | 810 completions | 405
516(e) | Record reason for postponing BOP system tests (on occasion) | 10 minutes | 46 postponed tests | 8
516(f) | Perform crew drills; record results (weekly for 2 crews × 2 weeks per completion = 4) | ½ hour | 810 completions × 4 = 3,240 | 1,620
LTL | Retain complete record of well's casing pressure for 2 years and retain diagnostic test records permanently | ¼ hour | 134 records | 34
LTL | Record diagnostic test results | ¼ hours | 610 tests/recordings | 153
| Subtotal—Recordkeeping |  | 10,510 | 3,665
| Total Hour Burden |  | 12,762 | 11,995
* LTL dated 13 January 1994.

Estimated Annual Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 27, 2004, we published a Federal Register notice (69 FR 9367) announcing that we would submit this ICR to OMB for approval. The notice provided the required 60-day comment period. In addition, 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by September 29, 2004.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

Information Collection Clearance Officer: Arlene Bajusz (202) 208-7744.

Dated: May 18, 2004.
E.P. Danenberger,
Chief, Engineering and Operations Division.

[FR Doc. 04-19649 Filed 8-27-04; 8:45 am]

BILLING CODE 4310-MR-P